COMMITTEE FOR THE IMPLEMENTATION OF TEXTILE AGREEMENTS

Determination under the African Growth and Opportunity Act

December 18, 2006.

AGENCY: Committee for the Implementation of Textile Agreements (CITA)

ACTION: Directive to the Commissioner of Customs and Border Protection.

SUMMARY: The Committee for the Implementation of Textile Agreements (CITA) has determined that certain textile and apparel goods from Niger shall be treated as “handloomed, handmade, folklore articles, or ethnic printed fabrics” and qualify for preferential treatment under the African Growth and Opportunity Act. Imports of eligible products from Niger with an appropriate visa will qualify for duty-free treatment.

EFFECTIVE DATE: January 3, 2007.

FOR FURTHER INFORMATION CONTACT: Anna Flaaten, International Trade Specialist, Office of Textiles and Apparel, U.S. Department of Commerce, (202) 482-3400.

SUPPLEMENTARY INFORMATION:

Authority: Sections 112(a) and 112(b)(6) of the African Growth and Opportunity Act (Title I of the Trade and Development Act of 2000, Pub. L. No. 106-200) (“AGOA”), as amended by Section 7(c) of the AGOA Acceleration Act of 2004 (Pub. L. 108-274) (“AGOA Acceleration Act”) (19 U.S.C. § 3721(a) and (b)(6)); Sections 2 and 5 of Executive Order No. 13191 of January 17, 2001; Sections 25-27 and Paras. 13-14 of Presidential Proclamation 7912 of June 29, 2005.

AGOA provides preferential tariff treatment for imports of certain textile and apparel products of beneficiary sub-Saharan African countries, including handloomed, handmade, or folklore articles of a beneficiary country that are certified as such by the competent authority in the beneficiary country. The AGOA Acceleration Act further expanded AGOA by adding ethnic printed fabrics to the list of textile and apparel products made in the beneficiary sub-Saharan African countries that may be eligible for the preferential treatment described in section 112(a) of the AGOA. In Executive Order 13191 (January 17, 2001) and Presidential Proclamation 7912 (June 29, 2005), the President authorized CITA to consult with beneficiary sub-Saharan African countries and to determine which, if any, particular textile and apparel goods shall be treated as being hand-loomed, handmade, folklore articles, or ethnic printed fabrics. (66 FR 7271-72 and 70 FR 37959, 37961 & 63)

In a letter to the Commissioner of Customs dated January 18, 2001, the United States Trade Representative directed Customs to require that importers provide an appropriate export visa from a beneficiary sub-Saharan African country to obtain preferential treatment under section 112(a) of the AGOA (66 FR 7837). The first digit of the visa number corresponds to one of nine groupings of textile and apparel products that are eligible for preferential tariff treatment. Grouping “9” is reserved for handmade, handloomed, folklore articles, or ethnic printed fabrics.

CITA has consulted with Nigerien authorities and has determined that handloomed fabrics, handloomed articles (e.g., handloomed rugs, scarves, place mats, and tablecloths), handmade articles made from handloomed fabrics, and the folklore articles described in Annex A and ethnic printed fabric described in Annex B to this notice, if produced in and exported from Niger, are eligible for preferential tariff treatment under section 112(a) of the AGOA, as amended. After further consultations with Nigerien authorities, CITA may determine that additional textile and apparel goods shall be treated as folklore articles or ethnic printed fabrics. In the letter published below, CITA directs the Commissioner of Customs and Border Protection to allow duty-free entry of such products under U.S. Harmonized Tariff Schedule subheading 9819.11.27 if accompanied by an appropriate AGOA visa in grouping “9”.

Philip J. Martello,
Acting Chairman, Committee for the Implementation of Textile Agreements.

Committee for the Implementation of Textile Agreements

December 18, 2006.

Commissioner,

Bureau of Customs and Border Protection, Washington, DC 20229.

Dear Commissioner: The Committee for the Implementation of Textiles Agreements (“CITA”), pursuant to Sections 112(a) and (b)(6) of the African Growth and Opportunity Act (Title I of the Trade and Development Act of 2000, Pub. L. No. 106-200) (“AGOA”), as amended by Section 7(c) of the AGOA Acceleration Act of 2004 (Pub. L. 108-274) (“AGOA Acceleration Act“) (19 U.S.C. § 3721(a) and (b)(6)), Executive Order No. 13191 of January 17, 2001, and Presidential Proclamation 7912 of June 29, 2005, has determined, effective on January 3, 2007, that the following articles shall be treated as “handloomed, handmade, folklore articles, and ethnic printed fabrics” under the AGOA: (a) handloomed fabrics, handloomed articles (e.g., handloomed rugs, scarves, placemats, and tablecloths), and handmade articles made from handloomed fabrics, if made in Niger from fabric handloomed in Niger; (b) the folklore articles described in Annex A; and (c) ethnic printed fabrics described in Annex B if made in Niger. Such articles are eligible for duty-free treatment only if entered under subheading 9819.11.27 and accompanied by a properly completed visa for product grouping “9”, in accordance with the provisions of the Visa Arrangement between the Government of Niger and the Government of the United States Concerning Textile and Apparel Articles Claiming Preferential Tariff Treatment under Section 112 of the Trade and Development Act of 2000. After further consultations with Nigerien authorities, CITA may determine that additional textile and apparel goods shall be treated as folklore articles or ethnic printed fabrics.

Sincerely,

Philip J. Martello,

Acting Chairman, Committee for the Implementation of Textile Agreements.

ANNEX A: Nigerien Folklore Products

CITA has determined that the following textile and apparel goods shall be treated as folklore articles for purposes of the AGOA if such goods are made in Niger. Articles must be ornamented in characteristic Nigerien or regional folk style. An article may not include modern features such as zippers, elastic, elasticized fabrics, snaps, or hook-and-pile fasteners (such as velcroc or similar holding fabric). An article may not incorporate patterns that are not traditional or historical to Niger, such as airplanes, buses, cowboys, or cartoon characters and may not incorporate designs referencing holidays or festivals not common to traditional Nigerien culture, such as Halloween and Thanksgiving.

Eligible folklore articles:

(a) Tera-Tera Blanket/Tapestry: Strips of handloomed fabric, usually 4 1/2 inches wide, hand or machine sewn together to make a larger piece of fabric, dyed with natural dyes, striped. Uses include blankets, bedspreads, interior decoration accessories, and are used in traditional marriage ceremonies.

(b) Boubou with hand-stitched embroidery: Made of handloomed strips of fabric, hand or machine sewn together, as described in (a), the garment is a traditional smock and may be accompanied by matching trousers. The garment is a natural cotton color, has an asymmetrical neckline and typically a center chest pocket immediately below the neckline. The front and back of the neckline is embellished in gray and blue hand-stitched embroidery

(c) Ladies' Boubou Style Dresses: This ladies' dress is a loose-fitting garment with large open armholes, may come with matching scarf, and is of bright solid colored machine-made fabric, or a machine-made lace-type fabric. Garment is decorated with hand or machine-sewn embroidery around the round or U-shaped neckline and the back of the shoulder, often in a cross-patterned motif. The garment may be full or half-length.

(d) Fulani Wodabe Loincloth/Wrap Skirt: This single piece of fabric garment is made of handloomed cotton strips of fabric, left in a natural cotton color, or dyed with a deep blue or black natural dyes. The wrap is heavily decorated with embroidery of colorful yarns along bottom hem and may be trimmed in a geometric-shaped machine-made fabric applique. The wrap also has fringes on two ends. Size measures approximately 1 x 1.5 meters.

(e) Touareg Trousers: Loose-fitting men's trousers made of solid-colored machine-made fabric. Garments have side-seam pockets and are embroidered along the bottom cuff and/or down side-seam.

(f) Ladies Wodabe Embroidered Shirt and Wrap Skirt: Straight-seamed, sleeveless shirt and accompanying wrap skirt, it is made of machine-made shiny cotton fabric, embellished with embroidery down the center front and bottom hem of wrap skirt.

(g) Fulani Wodabe Traditional Dress: This garment is made of hand-woven strips of fabric hand-sewn together left in a natural cotton color, or dyed black using natural dyes. The entire garment is embellished with embroidery in white, orange, green and yellow thread, and may have leather tassels and sea shells attached to sleeves or bottom hem. Edges may be trimmed with a geometric-shaped machine-made fabric applique. The garment comes in various lengths.

1. Men's traditional dress: Garment has a neck hole and drapes on the front and the back to approximately mid-thigh, sides open, and has a body armor-type appearance.

2. Women's traditional shirt and wrap skirt: Garment is straight-seamed, sleeveless shirt with a U-shaped neckline, extending down to the waistline. Garment may come with matching wrap skirt.

ANNEX B: Nigerien Ethnic Printed Fabrics

Each ethnic print must meet all of the criteria listed below:

A) selvedge on both edges

B) width of less than 50 inches

C) classifiable under subheading 5208.52.30 ¹or 5208.52.40 ² of the Harmonized Tariff Schedule of the United States

¹ printed plain weave fabrics of cotton, 85% or more cotton by weight, weighing over 100g/m2 but not more than 200 g/m2, of yarn number 42 or lower

² printed plain weave fabrics of cotton, 85% or more cotton by weight, weighing over 100g/m2 but not more than 200g/m2, of yarn numbers 43-68

D) contains designs, symbols, and other characteristics of African prints normally produced for and sold in Africa by the piece.

E) made from fabric woven in the U.S. using U.S. yarn or woven in one or more eligible sub-Saharan beneficiary countries using U.S or African yarn

F) printed, including waxed, in one or more eligible sub-Saharan beneficiary countries

[FR Doc. E6-21991 Filed 12-22-06; 8:45 am]

BILLING CODE 3510-DS-S